DEPARTMENT OF JUSTICE

Notice of Lodging of Proposed Consent Decree under the Clean Air Act

On June 28, 2013, the Department of Justice lodged a proposed consent decree with the United States District Court for the Eastern District of Tennessee in the lawsuit entitled United States and State of Tennessee v. King Pharmaceuticals LLC, Civil Action No. 2:13-cv-00178.

The United States filed this lawsuit under the Clean Air Act. The complaint seeks injunctive relief and civil penalties for alleged violations at the defendant's pharmaceutical production facility in Bristol, Tennessee, of (1) Permits issued under the Tennessee State Implementation Plan, (2) federal emission standards for hazardous air pollutants for pharmaceutical production, and (3) Title V of the Clean Air Act. The consent decree requires the defendant to perform injunctive relief to correct the violations at the facility and to pay $2.2 million in civil penalties, of which half will go to the United States and the other half to the State of Tennessee.

The publication of this notice opens a period for public comment on the consent decree. Comments should be addressed to the Assistant Attorney General, Environment and Natural Resources Division, and should refer to United States et al. v. King Pharmaceuticals LLC, D.J. Ref. No. 90-5-2-1-10132. All comments must be submitted no later than thirty (30) days after the publication date of this notice. Comments may be submitted either by email or by mail:

To submit comments: | Send them to:
By e-mail | pubcomment-ees.enrd@usdoj.gov.
By mail | Assistant Attorney General U.S. DOJ—ENRD P.O. Box 7611 Washington, D.C. 20044-7611.

During the public comment period, the consent decree may be examined and downloaded at this Justice Department Web site: http://www.usdoj.gov/enrd/Consent_Decrees.html. We will provide a paper copy of the consent decree upon written request and payment of reproduction costs. Please mail your request and payment to: Consent Decree Library, U.S. DOJ—ENRD, P.O. Box 7611, Washington, DC 20044-7611.

Please enclose a check or money order for $13.00 (25 cents per page reproduction cost) payable to the United States Treasury.

Maureen Katz,
Assistant Section Chief, Environmental Enforcement Section, Environment and Natural Resources Division.

[FR Doc. 2013-16752 Filed 7-11-13; 8:45 am]

BILLING CODE 4410-15-P